DEPARTMENT OF THE INTERIOR

Bureau of Land Management

[(LLCAC06000.L13100000.DS0000.LXSIAREV0000.18XL1109AF) MO# 450012099]

Notice of Intent for Potential Amendment to the Resource Management Plan for the Bakersfield Field Office, California, and To Prepare an Associated Supplemental Environmental Impact Statement

AGENCY: Bureau of Land Management, Interior.

ACTION: Notice of intent.

SUMMARY: In accordance with the National Environmental Policy Act of 1969, as amended (NEPA), and the Federal Land Policy and Management Act of 1976, as amended, (FLPMA), the Bureau of Land Management (BLM) Bakersfield Field Office, Bakersfield, California, intends to prepare a supplemental Environmental Impact Statement (EIS) and a potential Resource Management Plan (RMP) amendment for the Bakersfield Field Office Resource Management Plan. The supplemental EIS will analyze the impacts of hydraulic fracturing technology on BLM-administered public land and mineral estate in the Bakersfield Field Office Planning Area exclusive of the California Coastal National Monument and the Carrizo Plain National Monument. This effort is in response to a settlement agreement in case No. 2:15-cv-04378-MWF/JEM, filed with, and approved by, the U.S. District Court for the Central District of California on May 3, 2017. This notice announces the beginning of the scoping process to solicit public comments and identify issues.

DATES: This notice initiates the public scoping process for the Supplemental EIS and potential RMP amendment. Comments on issues may be submitted in writing until September 7, 2018. In order to be included in the analysis, all scoping comments must be submitted in writing and received prior to the close of the 30-day scoping period. We will provide additional opportunities for public participation as appropriate.

ADDRESSES: You may submit comments on issues and planning criteria related to this Supplemental EIS and potential RMP amendment by any of the following methods:

• Email: blm_ca_bkfo_oil_gas_update@blm.gov.

• Mail: Bakersfield Field Office, Bureau of Land Management, Attn: Bakersfield RMP Hydraulic Fracturing Analysis, 3801 Pegasus Drive, Bakersfield, CA 93308.

Documents pertinent to this proposal may be examined during regular business hours at: Bureau of Land Management, Bakersfield Field Office, 3801 Pegasus Drive, Bakersfield, CA 93308.

FOR FURTHER INFORMATION CONTACT: Carly Summers, Supervisory Natural Resources Specialist, telephone 661-391-6000; address Bureau of Land Management, 3801 Pegasus Drive, Bakersfield, CA 93308; email blm_ca_bkfo_oil_gas_update@blm.gov. Contact Ms. Summers to have your name added to our mailing list. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: This document provides notice that the BLM Field Office, Bakersfield, California, intends to prepare a supplemental EIS and potential RMP amendment for the 2014 Bakersfield Field Office RMP Planning Area. Furthermore, this document announces the beginning of the scoping process and seeks public input on issues and planning criteria related to hydraulic fracturing. The planning area is located in Fresno, Kern, Kings, Madera, San Luis Obispo, Santa Barbara, Tulare, and Ventura counties in California and encompasses approximately 400,000 acres of public land and an additional 1.2 million acres of Federal mineral estate (i.e., split estate). The purpose of the supplemental EIS is to analyze the environmental effects of the use of hydraulic fracturing technology in oil and gas development on new leases within the planning area and to determine whether changes are needed to the fluid minerals decisions in the Bakersfield Field Office RMP. The need to develop the supplemental EIS is established by the settlement agreement in case No. 2:15-cv-04378-MWF/JEM, filed with the U.S. District Court for the Central District of California on May 3, 2017. The purpose of the public scoping process is to determine relevant issues that will influence the scope of the environmental analysis, including alternatives if necessary, and guide the planning process. Preliminary issues for the supplemental EIS have been identified by BLM personnel; Federal, State, and local agencies; and other stakeholders. The issues include: Air and atmospheric values; water quality and quantity; seismicity; special status species; mineral resources (oil and gas); and socioeconomics. Preliminary planning criteria include:

1. Only those portions of the existing plan that need to be updated to respond to the issues and management concerns identified in the court order and settlement agreement will be reviewed.

2. The planning process will be completed in compliance with the FLPMA and all other applicable laws.

3. The planning process will include a Supplemental EIS that will comply with NEPA standards.

4. The scope of analysis will be consistent with the level of analysis in approved plans and in accordance with Bureau-wide standards and program guidance.

5. Public comments will be addressed during the planning process.

You may submit comments on issues and planning criteria in writing to the BLM using one of the methods listed in the ADDRESSES section above. To be most helpful, you should submit comments by the close of the 30-day scoping period.

The BLM will utilize and coordinate the NEPA scoping process to help fulfill the public involvement process under the National Historic Preservation Act (54 U.S.C. 306108), as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will evaluate identified issues to be addressed in the plan, and will place them into one of three categories:

1. Issues to be resolved in the analysis;

2. Issues to be resolved through policy or administrative action; or

3. Issues beyond the scope of the Supplemental EIS and potential RMP amendment.

The BLM will provide an explanation in the Draft Supplemental EIS as to why an issue was placed in category two or three. The public is also encouraged to help identify any management questions and concerns that should be addressed in the plan. The BLM will work collaboratively with interested parties to identify the management decisions that are best suited to local, regional, national needs, and concerns. The BLM will use an interdisciplinary approach to develop the Supplemental EIS and, if necessary, RMP amendment, in order to consider the variety of resource issues and concerns identified. Specialists with expertise in the following disciplines will be involved in the planning process: Hydrology, air, archaeology, paleontology, wildlife biology, oil and gas, geology, sociology and economics.

Before including your address, phone number, email address, or other personally identifiable information in your comment, you should be aware that your entire comment—including your personally identifiable information—may be made publicly available at any time. While you can ask us in your comment to withhold your personally identifiable information from public review, we cannot guarantee that we will be able to do so.

Authority: 40 CFR 1501.7 and 43 CFR 1610.2.

Jerome E. Perez,
BLM California State Director.

[FR Doc. 2018-16957 Filed 8-7-18; 8:45 am]

BILLING CODE 4310-40-P